NUCLEAR REGULATORY COMMISSION

[NRC-2015-0219]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from August 18 to August 31, 2015. The last biweekly notice was published on September 1, 2015.

DATES: Comments must be filed by October 15, 2015. A request for a hearing must be filed by November 16, 2015.

ADDRESSES: You may submit comments by any of the following methods (unless this document describes a different method for submitting comments on a specific subject):

• Federal Rulemaking Web site: Go to http://www.regulations.gov and search for Docket ID NRC-2015-0219. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Mable Henderson, Office of Nuclear Reactor Regulation, U.S. Nuclear Regulatory Commission, Washington DC 20555-0001; telephone: 301-415-3760, email: Mable.Henderson@nrc.gov.

SUPPLEMENTARY INFORMATION:

I. Obtaining Information and Submitting Comments

A. Obtaining Information

Please refer to Docket ID NRC-2015-0219 when contacting the NRC about the availability of information for this action. You may obtain publicly-available information related to this action by any of the following methods:

• Federal Rulemaking Web site: Go to http://www.regulations.gov and search for Docket ID NRC-2015-0219.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0219, facility name, unit number(s), application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Florida Power & Light Company, et al., Docket No. 50-335, St. Lucie Plant, Unit No. 1, St. Lucie County, Florida

Date of amendment request: July 15, 2015. A publicly-available version is in ADAMS under Accession No. ML15198A029.

Description of amendment request: The amendment would revise Technical Specification (TS) Surveillance Requirements for snubbers to conform to revisions to the Snubber Testing Program.

Basis for proposed no significant hazards consideration determination: As required by 10 CFR 50.91(a), the licensee has provided its analysis of the issue of no significant hazards consideration, which is presented below:

1. Does the proposed change involve a significant increase in the probability or consequences of an accident previously evaluated?

Response: No.

The proposed changes would revise SR [Surveillance Requirement] 4.7.10 to conform the TS to the revised surveillance program for snubbers. Snubber examination, testing and service life monitoring will continue to meet the requirements of 10 CFR 50.55a(g).

Snubber examination, testing and service life monitoring is not an initiator of any accident previously evaluated. Therefore, the probability of an accident previously evaluated is not significantly increased.

Snubbers will continue to be demonstrated OPERABLE by performance of a program for examination, testing and service life monitoring in compliance with 10 CFR 50.55a or authorized alternatives. The proposed change does not adversely affect plant operations, design functions or analyses that verify the capability of systems, structures, and components to perform their design functions therefore, the consequences of accidents previously evaluated are not significantly increased.

Therefore, it is concluded that this change does not involve a significant increase in the probability or consequences of an accident previously evaluated.

2. Does the proposed change create the possibility of a new or different kind of accident from any accident previously evaluated?

Response: No.

The proposed changes do not involve any physical alteration of plant equipment. The proposed changes do not alter the method by which any safety-related system performs its function. As such, no new or different types of equipment will be installed, and the basic operation of installed equipment is unchanged. The methods governing plant operation and testing remain consistent with current safety analysis assumptions.

Therefore, it is concluded that this change does not create the possibility of a new or different kind of accident from any accident previously evaluated.

3. Does the proposed change involve a significant reduction in a margin of safety?

Response: No.

The proposed changes ensure snubber examination, testing and service life monitoring will continue to meet the requirements of 10 CFR 50.55a(g). Snubbers will continue to be demonstrated OPERABLE by performance of a program for examination, testing and service life monitoring in compliance with 10 CFR 50.55a or authorized alternatives.

Therefore, it is concluded that the proposed change does not involve a significant reduction in a margin of safety.

The NRC staff has reviewed the licensee's analysis and, based on this review, it appears that the three standards of 50.92(c) are satisfied. Therefore, the NRC staff proposes to determine that the amendment request involves no significant hazards consideration.

Attorney for licensee: William S. Blair, Managing Attorney—Nuclear, Florida Power & Light, 700 Universe Blvd., MS LAW/JB, Juno Beach, Florida 33408-0420.

NRC Branch Chief: Shana R. Helton.

III. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Duke Energy Carolinas, LLC, Docket Nos. 50-369 and 50-370, McGuire Nuclear Station, Units 1 and 2, Mecklenburg Counties, North Carolina

Date of amendment request: June 30, 2015. A publicly-available version is in ADAMS under Accession No. ML15191A025.

Brief description of amendment request: The proposed amendment would allow a temporary extension of selected Technical Specification required Completion Times to support repair activities associated with the Nuclear Service Water System.

Date of publication of individual notice in Federal Register: August 20, 2015 (80 FR 50663).

Expiration date of individual notice: September 19, 2015 (public comments) and October 19, 2015 (hearing requests).

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Dominion Nuclear Connecticut, Inc., Docket No. 50-336, Millstone Power Station, Unit No. 2 (MPS2), New London County, Connecticut

Date of amendment request: October 31, 2014.

Brief description of amendment: The amendment revised the MPS2 Final Safety Analysis Report (FSAR) to allow for the use of the encoded ultrasonic examination technique in lieu of the FSAR committed additional radiography examination for certain piping welds fabricated to American National Standards Institute B31.1.0. Specifically, the legend notes of MPS2 FSAR Figure 9.0.3, “General Piping and Instrumentation Diagram” were revised to replace the references to “radiography” with “volumetric examination.”

Date of issuance: August 26, 2015.

Effective date: As of the date of issuance and shall be implemented within 30 days from the date of issuance.

Amendment No.: 322. A publicly-available version is in ADAMS under Accession No. ML15225A008; documents related to this amendment are listed in the Safety Evaluation enclosed with the amendment.

Renewed Facility Operating License No. DPR-65: Amendment revised the Renewed Operating License.

Date of initial notice in Federal Register: June 9, 2015 (80 FR 32626).

The Commission's related evaluation of the amendment is contained in a Safety Evaluation dated August 26, 2015.

No significant hazards consideration comments received: No.

Dominion Nuclear Connecticut, Inc., Docket No. 50-423, Millstone Power Station, Unit No. 3 (MPS3), New London County, Connecticut

Date of amendment request: October 14, 2014, as supplemented by letter dated August 27, 2015.

Brief description of amendment: The amendment revised the MPS3 Technical Specification (TS) surveillance requirement (SR) 4.4.4.2 to remove the requirement to perform the surveillance for a pressurizer power-operated relief valve block valve that is being maintained closed in accordance with TS 3.4.4 Action a.

Date of issuance: August 28, 2015.

Effective date: As of the date of issuance and shall be implemented within 60 days from the date of issuance.

Amendment No.: 264. A publicly-available version is in ADAMS under Accession No. ML15225A010; documents related to this amendment are listed in the Safety Evaluation enclosed with the amendment.

Renewed Facility Operating License No. NPF-49: Amendment revised the Renewed Operating License and TSs.

Date of initial notice in Federal Register: April 28, 2015 (80 FR 23601). The supplemental letter dated August 27, 2015, provided additional information that clarified the application, did not expand the scope of the application as originally noticed, and did not change the staff's original proposed no significant hazards consideration determination as published in the Federal Register.

The Commission's related evaluation of the amendment is contained in a Safety Evaluation dated August 28, 2015.

No significant hazards consideration comments received: No.

Duke Energy Carolinas, LLC, Docket Nos. 50-369 and 50-370, McGuire Nuclear Station, Units 1 and 2, Mecklenburg County, North Carolina

Date of application for amendments: March 23, 2015.

Brief description of amendments: The amendments modify the definition of RATED THERMAL POWER and delete a footnote that allowed for staggered implementation of the previously approved Measurement Uncertainty Recapture Power Uprate.

Date of issuance: August 24, 2015.

Effective date: This license amendment is effective as of its date of issuance and shall be implemented within 30 days of issuance.

Amendment Nos.: 280 and 260. A publicly-available version is in ADAMS under Accession No. ML15174A173; documents related to these amendments are listed in the Safety Evaluation enclosed with the amendments.

Renewed Facility Operating License Nos. NPF-9 and NPF-17: Amendments revised the Facility Operating Licenses and Technical Specifications.

Date of initial notice in Federal Register: June 9, 2015 (80 FR 32627).

The Commission's related evaluation of the amendments is contained in a Safety Evaluation dated August 24, 2015.

No significant hazards consideration comments received: No.

Entergy Operations, Inc., System Energy Resources, Inc., South Mississippi Electric Power Association, and Entergy Mississippi, Inc., Docket No. 50-416, Grand Gulf Nuclear Station, Unit 1, Claiborne County, Mississippi

Date of application for amendment: November 21, 2014, as supplemented by letter dated April 14, 2015.

Brief description of amendment: The amendment revised Technical Specification (TS) 2.1.1.2 of TS Section 2.1.1, “Reactor Core SLs [Safety Limits].” Specifically, the cycle-specific safety limit minimum critical power ratio values for Cycle 20 were revised in support of the Maximum Extended Load Line Limit Analysis Plus license amendment request.

Date of issuance: August 18, 2015.

Effective date: As of the date of issuance and shall be implemented within 180 days of issuance.

Amendment No: 203. A publicly-available version is in ADAMS under Accession No. ML15229A213; documents related to this amendment are listed in the Safety Evaluation enclosed with the amendment.

Facility Operating License No. NPF-29: The amendment revised the Facility Operating License and Technical Specifications.

Date of initial notice in Federal Register: March 31, 2015 (80 FR 17087). The supplemental letter dated April 14, 2015, provided additional information that clarified the application, did not expand the scope of the application as originally noticed, and did not change the staff's original proposed no significant hazards consideration determination as published in the Federal Register.

The Commission's related evaluation of the amendment is contained in a Safety Evaluation dated August 18, 2015.

No significant hazards consideration comments received: No.

Entergy Operations, Inc., System Energy Resources, Inc., South Mississippi Electric Power Association, and Entergy Mississippi, Inc., Docket No. 50-416, Grand Gulf Nuclear Station, Unit 1 (GGNS), Claiborne County, Mississippi

Date of application for amendment: November 21, 2014, as supplemented by letters dated February 18, March 30, May 8, June 11, 2015 and August 10, 2015.

Brief description of amendment: The amendment revised the GGNS Updated Final Safety Analysis Report from the use of two different fluence calculational methods to the use of a single 3D fluence methodology for 0 effective full power years through the end of extended operations.

Date of issuance: August 18, 2015.

Effective date: As of the date of issuance and shall be implemented within 90 days of issuance.

Amendment No: 204. A publicly-available version is in ADAMS under Accession No. ML15229A218; documents related to this amendment are listed in the Safety Evaluation enclosed with the amendment.

Facility Operating License No. NPF-29: The amendment revised the Updated Final Safety Analysis Report.

Date of initial notice in Federal Register: March 31, 2015 (80 FR 17087). The supplemental letters dated March 30, May 8, June 11, 2015 and August 10, 2015, provided additional information that clarified the application, did not expand the scope of the application as originally noticed, and did not change the staff's original proposed no significant hazards consideration determination as published in the Federal Register.

The Commission's related evaluation of the amendment is contained in a Safety Evaluation dated August 18, 2015.

No significant hazards consideration comments received: Yes. The comments received on Amendment No. 204 are addressed in the Safety Evaluation dated August 18, 2015.

Entergy Operations, Inc., Docket No. 50-382, Waterford Steam Electric Station, Unit 3 (WF3), St. Charles Parish, Louisiana

Date of amendment request: August 28, 2014, as supplemented by letters dated April 15, May 4, and June 18, 2015.

Brief description of amendment: The amendment revised Technical Specification 6.15, “Containment Leakage Rate Testing Program,” to allow for the extension of the 10-year frequency of the WF3 Type A or Integrated Leak Rate Test to 15 years on a permanent basis.

Date of issuance: August 24, 2015.

Effective date: As of the date of issuance and shall be implemented 30 days from the date of issuance.

Amendment No.: 244. A publicly-available version is in ADAMS under Accession No. ML15217A143; documents related to this amendment are listed in the Safety Evaluation enclosed with the amendment.

Facility Operating License No. NPF-38: The amendment revised the Facility Operating License and Technical Specifications.

Date of initial notice in Federal Register: December 9, 2014 (79 FR 73109). The supplements dated April 15, May 4, and June 18, 2015, provided additional information that clarified the application, did not expand the scope of the application as originally noticed, and did not change the staff's original proposed no significant hazards consideration determination as published in the Federal Register.

The Commission's related evaluation of the amendment is contained in a Safety Evaluation dated August 24, 2015.

No significant hazards consideration comments received: No.

Florida Power and Light Company, et al., Docket Nos. 50-335 and 50-389, St. Lucie Plant, Unit Nos. 1 and 2, St. Lucie County, Florida

Date of amendment request: August 26, 2014, as supplemented by letters dated January 14, February 6, and May 14, 2015.

Brief description of amendments: The amendments revised Technical Specification 6.8.4.h, “Containment Leakage Rate Testing Program,” to allow extension of the Type A test (i.e., Integrated Leak Rate Test) to a 15-year frequency.

Date of issuance: August 27, 2015.

Effective date: As of the date of issuance and shall be implemented within 60 days of issuance.

Amendment Nos.: 226 and 176. A publicly available version is in ADAMS under Accession No. ML15195A655; documents related to these amendments are listed in the safety evaluation (SE) enclosed with the amendments.

Renewed Facility Operating License Nos. DPR-67 and NPF-16: Amendments revised the Renewed Facility Operating Licenses and Technical Specifications.

Date of initial notice in Federal Register: January 20, 2015 (80 FR 2750). The supplemental letters dated January 14, February 6, and May 14, 2015, provided additional information that clarified the application, did not expand the scope of the application as originally noticed, and did not change the staff's original proposed no significant hazards consideration determination as published in the Federal Register.

The Commission's related evaluation of the amendments is contained in an SE dated August 27, 2015.

No significant hazards consideration comments received: No. A comment was received but it was not related to the amendment or to the proposed no significant hazards consideration determination.

Florida Power and Light Company, et al., Docket Nos. 50-335 and 50-389, St. Lucie Plant, Unit Nos. 1 and 2, St. Lucie County, Florida

Date of amendment request: August 7, 2014, as supplemented by letters dated February 20 and May 21, 2015.

Brief description of amendments: The amendments revised the Technical Specifications (TSs) by adopting Technical Specification Task Force (TSTF) traveler TSTF-426, Revision 5, “Revise or Add Actions to Preclude Entry into Limiting Condition for Operation 3.0.3—RITSTF [Risk-Informed TSTF] Initiatives 6b and 6c,” which is an NRC-approved change to the Standard TSs. The amendments provide an additional allowed outage time to restore an inoperable system for conditions under which existing TSs require a plant shutdown.

Date of Issuance: August 31, 2015.

Effective date: As of the date of issuance and shall be implemented within 60 days of issuance.

Amendment Nos.: 227 and 177. A publicly-available version is in ADAMS under Accession No. ML15191A403; documents related to these amendments are listed in the Safety Evaluation (SE) enclosed with the amendments.

Renewed Facility Operating License Nos. DPR-67 and NPF-16: Amendments revised the TSs.

Date of initial notice in Federal Register: March 17, 2015 (80 FR 13908). The supplemental letters dated February 20 and May 21, 2015, provided additional information that clarified the application, did not expand the scope of the application as originally noticed, and did not change the staff's original proposed no significant hazards consideration determination.

The Commission's related evaluation of the amendments is contained in an SE dated August 30, 2015.

No significant hazards consideration comments received: No.

Nebraska Public Power District, Docket No. 50-298, Cooper Nuclear Station, Nemaha County, Nebraska

Date of amendment request: August 26, 2014, as supplemented by letters dated February 25 and July 13, 2015.

Brief description of amendment: The proposed amendment revised the CNS Technical Specifications (TSs) by deleting Option b from TS Surveillance Requirement 3.5.2.1. Option b allows use of Condensate Storage Tank (CST) A as an alternative source of makeup water to the reactor pressure vessel during MODE 4 and MODE 5, but CST A is not qualified to Seismic Category I.

Date of issuance: August 27, 2015.

Effective date: As of the date of issuance and shall be implemented within 60 days of issuance.

Amendment No.: 252. A publicly-available version is in ADAMS under Accession No. ML15216A259; documents related to this amendment are listed in the Safety Evaluation enclosed with the amendment.

Renewed Facility Operating License No. DPR-46: Amendment revised the Facility Operating License and TSs.

Date of initial notice in Federal Register: December 23, 2014 (79 FR 77047). The supplemental letters dated February 25 and July 13, 2015, provided additional information that clarified the application, did not expand the scope of the application as originally noticed, and did not change the staff's original proposed no significant hazards consideration determination as published in the Federal Register.

The Commission's related evaluation of the amendment is contained in a Safety Evaluation dated August 27, 2015.

No significant hazards consideration comments received: No.

NextEra Energy Duane Arnold, LLC, Docket No. 50-331, Duane Arnold Energy Center (DAEC), Linn County, Iowa

Date of amendment request: August 28, 2014.

Brief description of amendment: The amendment revised the DAEC Renewed Facility Operating License (FOL) to change the scheduled completion date for Milestone 8 of the Cyber Security Plan (CSP) Implementation Schedule. The amendment modified paragraph 2.C.(5) of the Renewed FOL No. DPR-49, which provides a license condition to require the licensee, to fully implement and maintain in effect all provisions of the NRC-approved CSP.

Date of issuance: August 18, 2015.

Effective date: As of the date of issuance and shall be implemented within 60 days.

Amendment No.: 291. A publicly-available version is in ADAMS under Accession No. ML15169A261; documents related to this amendment are listed in the Safety Evaluation enclosed with the amendment.

Renewed Facility Operating License No. DPR-49: The amendment revised the renewed FOL.

Date of initial notice in Federal Register: January 6, 2015 (80 FR 535).

The Commission's related evaluation of the amendment is contained in a Safety Evaluation dated August 18, 2015.

No significant hazards consideration comments received: No.

Northern States Power Company—Minnesota, Docket Nos. 50-282 and 50-306, Prairie Island Nuclear Generating Plant, Units 1 and 2, Goodhue County, Minnesota

Date of amendment requests: August 21, 2014, as supplemented by letters dated February 9, 2015, and July 31, 2015.

Brief description of amendments: The amendments revised the licensing basis analysis for a waste gas decay tank rupture at the Prairie Island Nuclear Generating Plant, Units 1 and 2.

Date of issuance: August 26, 2015.

Effective date: As of the date of issuance and shall be implemented within 30 days of issuance.

Amendment Nos.: Unit 1—215; Unit 2—203. A publicly-available version is in ADAMS under Accession No. ML15229A176; documents related to these amendments are listed in the Safety Evaluation enclosed with the amendments.

Date of initial notice in Federal Register: October 28, 2014 (79 FR 64227). The supplements dated February 9, 2015, and July 31, 2015, provided additional information that clarified the application, did not expand the scope of the application as originally noticed, and did not change the staff's original proposed no significant hazards consideration determination as published in the Federal Register.

The Commission's related evaluation of the amendments is contained in a Safety Evaluation dated August 26, 2015.

No significant hazards consideration comments received: No.

Pacific Gas and Electric Company, Docket Nos. 50-275 and 50-323, Diablo Canyon Nuclear Power Plant, Unit Nos. 1 and 2, San Luis Obispo County, California

Date of application for amendments: July 28, 2014, as supplemented by letters dated May 7, 2015 and August 6, 2015.

Brief description of amendments: The amendments modified the technical specifications to risk-inform requirements regarding selected Required Action End States. The proposed changes to the Required Action End States are described in Table 1 of the Enclosure to the licensee's letter dated July 28, 2014. The changes are consistent with Technical Specification Task Force (TSTF) Traveler TSTF-432, Revision 1, “Change in Technical Specifications End States (WCAP-16294)” (ADAMS Accession No. ML103430249).

Date of issuance: August 27, 2015.

Effective date: As of its date of issuance and shall be implemented within 120 days from the date of issuance.

Amendment Nos.: Unit 1—219; Unit 2—221. A publicly-available version is in ADAMS under Accession No. ML15204A222; documents related to these amendments are listed in the Safety Evaluation enclosed with the amendments.

Facility Operating License Nos. DPR-80 and DPR-82: The amendments revised the Facility Operating Licenses and Technical Specifications.

Date of initial notice in Federal Register: September 30, 2014 (79 FR 58823). The supplemental letters dated May 7 and August 6, 2015, provided additional information that clarified the application, did not expand the scope of the application as originally noticed, and did not change the staff's original proposed no significant hazards consideration determination as published in the Federal Register.

The Commission's related evaluation of the amendments is contained in a Safety Evaluation dated August 27, 2015.

No significant hazards consideration comments received: No.

South Carolina Electric & Gas Company, South Carolina Public Service Authority, Docket No. 50-395, Virgil C. Summer Nuclear Station, Unit 1, Fairfield County, South Carolina

Date of amendment request: December 19, 2014.

Date of issuance: August 18, 2015.

Brief description of amendment: The amendment approves expansion of the Emergency Planning Zone (EPZ) boundary, a revision to the Evacuation Time Estimates analysis, and a revision to the Alert and Notification System design reports to encompass the expanded EPZ boundary.

Effective date: As of the date of its issuance and shall be implemented within 90 days of issuance.

Amendment No.: 201. A publicly-available version is in ADAMS under Accession No. ML15170A087; documents related to this amendment are listed in the Safety Evaluation enclosed with the amendment.

Renewed Facility Operating License No. NPF-12: Amendment revised the Renewed Facility Operating License.

Date of initial notice in Federal Register: February 3, 2015 (80 FR 5803).

The Commission's related evaluation of the amendment is contained in a Safety Evaluation dated August 18, 2015.

No significant hazards consideration comments received: No.

Southern Nuclear Operating Company, Inc., Docket No. 50-424, Vogtle Electric Generating Plant, Unit 1, Burke County, Georgia

Date of application for amendments: June 4, 2015, as supplemented July 22 and July 31, 2015.

Brief description of amendment: The amendment revises the Vogtle Electric Generating Plant (VEGP) Unit 1, Technical Specification (TS) Limiting Condition for Operation (LCO) 3.5.2, “ECCS Operating”, such that with the `1A' Residual Heat Removal (RHR) pump inoperable for a motor replacement, the Completion Time of Condition 3.5.2.A changes from 72 hours to 7 days. This TS change would be in effect only for the `1A' RHR pump for the remainder of Cycle 19.

Date of issuance: August 19, 2015.

Effective date: As of the date of issuance and shall be implemented within 30 days from the date of issuance.

Amendment No.: 176. A publicly-available version is in ADAMS under Accession No. ML15209A874. Documents related to this amendment are listed in the Safety Evaluation enclosed with the amendment.

Renewed Facility Operating License Nos NPF-68: Amendment revised the Renewed Facility Operating License.

Date of initial notice in Federal Register: June 23, 2015 (80 FR 35983). The supplemental letters dated July 22 and July 31, 2015, provided additional information that clarified the application, did not expand the scope of the application as originally noticed, and did not change the staff's original proposal no significant hazards consideration determination as published in the Federal Register.

The Commission's related evaluation of the amendments is contained in a Safety Evaluation dated August 19, 2015. The Commission has made a final determination that no significant hazards consideration is involved for the proposed amendment, as discussed in the aforementioned Safety Evaluation.

No significant hazards consideration comments received: No.

STP Nuclear Operating Company, Docket Nos. 50-498 and 50-499, South Texas Project, Units 1 and 2, Matagorda County, Texas

Date of amendment request: May 15, 2014, as supplemented by letters dated July 10, 2014, February 11 and 26, and July 1, 2015.

Brief description of amendments: The amendments support a conversion from the current emergency action level scheme to a scheme based on Nuclear Energy Institute (NEI) 99-01, Revision 6, “Development of Emergency Action Levels for Non-Passive Reactors,” dated November 2012.

Date of issuance: August 20, 2015.

Effective date: As of the date of issuance and shall be implemented within 180 days of issuance.

Amendment Nos.: Unit 1—206; Unit 2—194. A publicly-available version is in ADAMS under Accession No. ML15201A195; documents related to these amendments are listed in the Safety Evaluation enclosed with the amendments.

Facility Operating License Nos. NPF-76 and NPF-80: The amendments authorize revisions to the Emergency Action Level Technical Bases Document.

Date of initial notice in Federal Register: October 28, 2014 (79 FR 64229). The supplemental letters dated February 11 and 26, and July 1, 2015, provided additional information that clarified the application, did not expand the scope of the application as originally noticed, and did not change the staff's original proposed no significant hazards consideration determination as published in the Federal Register.

The Commission's related evaluation of the amendments is contained in a Safety Evaluation dated August 20, 2015.

No significant hazards consideration comments received: No.

Wolf Creek Nuclear Operating Corporation, Docket No. 50-482, Wolf Creek Generating Station, Coffey County, Kansas

Date of amendment request: February 26, 2014, as supplemented by letters dated December 8, 2014, and January 21 and July 15, 2015.

Brief description of amendment: The amendment revised Technical Specification 5.6.5, “CORE OPERATING LIMITS REPORT (COLR),” to incorporate Westinghouse Electric Company LLC's topical report WCAP-16009-P-A, “Realistic Large-Break LOCA [Loss-of-Coolant Accident] Evaluation Methodology Using the Automated Statistical Treatment of Uncertainty Method (ASTRUM),” January 2005, to the list of analytical methods used to determine the core operating limits.

Date of issuance: August 28, 2015.

Effective date: Upon issuance and shall be implemented within 90 days of the date of issuance.

Amendment No.: 213. A publicly-available version is in ADAMS under Accession No. ML15203A005; documents related to this amendment are listed in the Safety Evaluation enclosed with the amendment.

Renewed Facility Operating License No. NPF-42. The amendment revised the Operating License and Technical Specifications.

Date of initial notice in Federal Register: September 9, 2014 (79 FR 53462). The supplemental letters dated December 8, 2014, January 21, and July 15, 2015, provided additional information that clarified the application, did not expand the scope of the application as originally noticed, and did not change the staff's original proposed no significant hazards consideration determination as published in the Federal Register.

The Commission's related evaluation of the amendment is contained in a Safety Evaluation dated August 28, 2015.

No significant hazards consideration comments received: No.

Dated at Rockville, Maryland, this 8th day of September 2015.
For the Nuclear Regulatory Commission.
Anne Boland,
Director, Division of Operating Reactor Licensing, Office of Nuclear Reactor Regulation.

[FR Doc. 2015-23083 Filed 9-14-15; 8:45 am]

BILLING CODE 7590-01-P